DEPARTMENT OF ENERGY

Federal Energy Regulaltory Commission

[Docket No. OR05-10-000]

BP Pipelines (Alaska) Inc., ConocoPhillips Transportation Alaska, Inc., ExxonMobil Pipeline Company, Koch Alaska Pipeline Company, L.L.C., Unocal Pipeline Company; Notice of Petition

July 29, 2005.

Take notice that on July 20, 2005, BP Pipelines (Alaska) Inc., ConocoPhillips Transportation Alaska, Inc., ExxonMobil Pipeline, Koch Alaska Pipeline Company LLC, and Unocal Pipeline Company (The TAPS Carriers) tendered for filing a petition pursuant to sections 13(3) and 13(4) of the Interstate Commerce Act, 49 U.S.C. App. 13(3), 13(4) (1995).

The TAPS Carriers allege that the 2005 rates set by the Regulatory Commission of Alaska (RCA) for intrastate transportation on the Trans Alaska Pipeline System (TAPS) are unlawful because they create an undue preference in favor of intrastate shippers and are unjustly discriminatory against and an undue burden on interstate commerce. The TAPS Carriers ask that the Commission investigate the RCA-set TAPS intrastate rates, find those rates to be unduly preferential and unjustly discriminatory against and an undue burden on interstate commerce, and set new TAPS intrastate rates equal to (in the case of deliveries to Valdez) or comparable to (in the case of deliveries to intermediate points) the TAPS interstate rates. In addition, The TAPS Carriers seek to have the consideration of their petition consolidated with the on-going proceedings in Docket Nos. IS05-82-000, et al. (consolidated).

The TAPS Carriers state that copies of the petition were served on all parties listed on the official service list for the consolidated proceedings in docket Nos. IS05-82-000, et al.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the date as indicated below. Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please email FERCOnlineSupport@ferc.gov, or call (866) 208-3676 (toll free). For TTY, call (202) 502-8659.

Comment Date: 5 p.m. eastern time on August 5, 2005.

Magalie R. Salas,
Secretary.

[FR Doc. E5-4162 Filed 8-2-05; 8:45 am]

BILLING CODE 6717-01-P